DEPARTMENT OF COMMERCE

International Trade Administration

[A-570-848]

Freshwater Crawfish Tail Meat From the People's Republic of China: Final Results of Antidumping Duty Administrative Review; 2017-2018

AGENCY: Enforcement and Compliance, International Trade Administration, Department of Commerce.

SUMMARY: The Department of Commerce (Commerce) determines that certain companies covered by the administrative review made sales of subject merchandise at prices below normal value for the period of review (POR) September 1, 2017 through August 31, 2018.

DATES: Applicable October 31, 2019.

FOR FURTHER INFORMATION CONTACT: Andre Gziryan, AD/CVD Operations, Office I, Enforcement and Compliance, International Trade Administration, U.S. Department of Commerce, 1401 Constitution Avenue NW, Washington, DC 20230; telephone: (202) 482-2201.

SUPPLEMENTARY INFORMATION:

Background

On July 18, 2019, Commerce published the preliminary results of the administrative review of the antidumping duty order on freshwater crawfish tail meat from the People's Republic of China (China) covering the POR.¹ We gave interested parties an opportunity to comment on the Preliminary Results. On August 26, 2019, Yancheng Hi-King Agriculture Developing Co., Ltd. (Yancheng) ² and China Kingdom (Beijing) Import & Export Co., Ltd. (China Kingdom), Deyan Aquatic Products and Food Co., Ltd. (Deyan Aquatic), Hubei Qianjiang Huashan Aquatic Food and Product Co., Ltd. (Hubei Qianjiang), Nanjing Gemsen International Co., Ltd. (Nanjing Gemsen), Xiping Opeck Food Co., Ltd. (Xiping Opeck), and Xuzhou Jinjiang Foodstuffs Co., Ltd. (Xuzhou Jinjiang) (collectively, Respondents) ³ timely submitted their case briefs. The Crawfish Processors Alliance ⁴ (the petitioner) did not comment, and we received no rebuttal briefs.

¹ See Freshwater Crawfish Tail Meat from the People's Republic of China: Preliminary Results of Antidumping Duty Administrative Review; 2017-2018, 84 FR 34339 (July 18, 2019) (Preliminary Results), and accompanying Preliminary Decision Memorandum.

² See Yancheng's Letter, “Freshwater Crawfish Tail Meat from The People's Republic of China: Case Brief,” dated August 26, 2019.

³ See Respondents' Letter, “Freshwater Crawfish Tail Meat from the PRC Respondents' Case Brief,” dated August 26, 2019.

⁴ The Crawfish Processors Alliance consists of the following firms: A&S Crawfish; Acadiana Fishermen's Cooperative; Arnaudville Seafood Plant; Atchafalaya Crawfish Processors; Atchafalaya Crawfish Processing, L.L.C.; Bayou Land Seafood, LLC; Bieber Farms Crawfish, Inc.; Blanchard's Seafood, Inc.; Bonanza Crawfish Farm, Inc.; CJL Enterprise, Inc. d/b/a C.J.'s; Cajun Central, Inc.; Cajun Seafood Distributor, Inc.; Catahoula Crawfish, Inc.; Choplin Seafood; Clearwater Crawfish; Crawfish Enterprises, Inc.; Dugas Seafood aka Carl's Seafood; Toups Crawfish, L.L.C.; Harvestime Seafood; Harvey's Seafood; Louisiana Seafood Co.; Louisiana Premium Seafood; L.T. West, Inc.; Phillips Seafood, L.L.C.; Prairie Cajun Wholesale Distributors; Randol, Inc. aka Randol's Seafood and Restaurant; Riceland Crawfish, Inc. aka Beaucoup Crawfish; Seafood International, Inc.; Sylvester's Crawfish; and Teche Valley Seafood.

The final results are unchanged from the Preliminary Results. Commerce conducted this review in accordance with section 751(a)(1), (2)(B) and (a)(3) of the Tariff Act of 1930, as amended (the Act). The deadline for the final results of this administrative review is November 15, 2019.

Scope of the Order

The product covered by the antidumping duty order is freshwater crawfish tail meat, in all its forms (whether washed or with fat on, whether purged or un-purged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTSUS) under item numbers 1605.40.10.10 and 1605.40.10.90, which are the HTSUS numbers for prepared foodstuffs, indicating peeled crawfish tail meat and other, as introduced by U.S. Customs and Border Protection (CBP) in 2000, and HTSUS numbers 0306.19.00.10 and 0306.29.00.00, which are reserved for fish and crustaceans in general. On February 10, 2012, Commerce added HTSUS classification number 0306.29.01.00 to the scope description pursuant to a request by CBP. On September 21, 2018, Commerce added HTSUS classification numbers 0306.39.0000 and 0306.99.0000 to the scope description pursuant to a request by CBP. The HTSUS subheadings are provided for convenience and customs purposes only. The written description of the scope of the order is dispositive.

Analysis of Comments Received

All issues raised in the case briefs by parties in this review are addressed in the Issues and Decision Memorandum.⁵ A list of the issues raised is attached as an appendix to this notice. The Issues and Decision Memorandum is a public document and is available to the public via Enforcement and Compliance's Antidumping and Countervailing Duty Centralized Electronic Service System (ACCESS). ACCESS is available to registered users at http://access.trade.gov and is available to all parties in the Central Records Unit, room B8024 of the main Commerce building. In addition, a complete version of the Issues and Decision Memorandum can be accessed directly on the Enforcement and Compliance website at http://enforcement.trade.gov/frn/.

⁵ See Memorandum, “Freshwater Crawfish Tail Meat from the People's Republic of China: Issues and Decision Memorandum for the Final Results of the Antidumping Duty Administrative Review; 2017-2018,” issued concurrently with, and hereby adopted by, this notice (Issues and Decision Memorandum).

Changes Since the Preliminary Results

We made no revisions to the Preliminary Results.

Final Determination of No Shipments

We preliminarily found that Anhui Luan Hongyuan Foodstuffs Co., Ltd., China Kingdom, Kunshan Xinrui Trading Co., Ltd., Nanjing Yinxiangchen International Trade Co., Ltd., Shanghai Ocean Flavor International Trading Co., Ltd., and Weihsan Hongda Aquatic Food Co., Ltd., which have been eligible for separate rates in previous segments of the proceeding and are subject to this review, did not have any reviewable entries of subject merchandise during the POR.⁶ After the Preliminary Results, we received no comments or additional information with respect to these six companies. Therefore, for the final results, we continue to find that these six companies did not have any reviewable entries of subject merchandise during the POR. Consistent with our practice, we will issue appropriate instructions to U.S. Customs and Border Protection (CBP) based on our final results.

⁶ See Preliminary Results, 84 FR at 34339-40.

Separate Rate for Non-Selected Companies

Deyan Aquatic, Hubei Nature, Hubei Yuesheng, Xiping Opeck, Xuzhou Jinjian, and Yancheng are the exporters of crawfish tail meat from China that demonstrated their eligibility for a separate rate which were not selected for individual examination in this review. As in the Preliminary Results, Commerce has calculated a rate for the mandatory respondent Hubei Qianjiang that is zero and a rate for the mandatory respondent Nanjing Gemsen that is not zero, de minimis, or based entirely on facts available. Therefore, in accordance with section 735(c)(5)(A) of the Act and its prior practice, Commerce has assigned Nanjing Gemsen's calculated rate (i.e., 7.92 percent) as the separate rate for the non-examined separate rate exporters for these final results.⁷

⁷ For more details on our methodology in selecting a rate for a non-examined separate rate exporter, see Issues and Decision Memorandum at the “Separate Rates” section.

China-Wide Entity

As stated in the Preliminary Results, because no party requested a review of the China-wide entity in this review, the entity is not under review and the entity's rate is not subject to change (i.e., 223.01 percent).⁸ Unchanged from the Preliminary Results, Commerce determines that Jingzhou Tianhe Aquatic Products Co., Ltd., which did not file a separate rate application, is part of the China-wide entity.

⁸ See Freshwater Crawfish Tail Meat from the People's Republic of China; Notice of Final Results of Antidumping Duty Administrative Review, 68 FR 19504 (April 21, 2003).

Final Results of Administrative Review

As a result of this administrative review, Commerce determines that the following weighted-average dumping margins exist for the period September 1, 2017 through August 31, 2018:

Producer/exporter | Weighted-average margin (percent)
Deyan Aquatic Products and Food Co., Ltd | 7.92
Hubei Nature Agriculture Industry Co., Ltd | 7.92
Hubei Qianjiang Huashan Aquatic Food and Product Co., Ltd | 0.00
Hubei Yuesheng Aquatic Products Co., Ltd | 7.92
Nanjing Gemsen International Trade Co., Ltd | 7.92
Xiping Opeck Food Co., Ltd | 7.92
Xuzhou Jinjiang Foodstuffs Co., Ltd | 7.92
Yancheng Hi-King Agricultural Developing Co., Ltd | 7.92

Assessment

Pursuant to section 751(a)(2)(A) of the Act, and 19 CFR 351.212(b), Commerce will determine, and CBP shall assess, antidumping duties on all appropriate entries covered by this review. In accordance with 19 CFR 351.212(b)(1), we have calculated importer-specific (or customer-specific) assessment rates for merchandise subject to this review.

For these final results, we divided the total dumping margins (calculated as the difference between normal value and export price) for each of the respondents' importers or customers by the total number of kilograms the exporter sold to that importer or customer. We intend to direct CBP to assess the resulting per-kilogram dollar amount against each kilogram of merchandise in each of that importer's/customer's entries during the review period.

For entries that were not reported in the U.S. sales databases submitted by companies individually examined during the administrative review, Commerce intends to instruct CBP to liquidate such entries at the China-wide rate. We intend to issue assessment instructions to CBP 15 days after the date of publication of these final results of review.

Cash Deposit Requirements

On June 7, 2019, as a result of the five-year (sunset) review, Commerce revoked the antidumping duty order on imports of freshwater crawfish tail meat from China.⁹ In the Revocation Notice, Commerce stated that it intends to issue instructions to CBP to terminate the suspension of liquidation and to discontinue the collection of cash deposits on entries of subject merchandise, entered or withdrawn from warehouse, on or after May 16, 2019.¹⁰ Furthermore, because the antidumping duty order on freshwater crawfish tail meat from China has been revoked as a result of the Revocation Notice, Commerce will not issue cash deposit instructions at the conclusion of this administrative review.

⁹ See Freshwater Crawfish Tail Meat from the People's Republic of China: Final Results of Sunset Review and Revocation of Antidumping Duty Order, 84 FR 26647 (June 7, 2019) (Revocation Notice).

¹⁰ See Revocation Notice, 84 FR at 26647.

Notification to Importers

This notice serves as a final reminder to importers of their responsibility under 19 CFR 351.402(f)(2) to file a certificate regarding the reimbursement of antidumping duties prior to liquidation of the relevant entries during this POR. Failure to comply with this requirement could result in Commerce's presumption that reimbursement of the antidumping duties occurred and the subsequent assessment of doubled antidumping duties.

Administrative Protective Orders

This notice also serves as the only reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a violation subject to sanction.

Notification to Interested Parties

The final results of this administrative review are issued and published in accordance with sections 751(a)(1), 751(a)(3), and 777(i) of the Act and 19 CFR 351.213(h).

Dated: October 25, 2019.
Jeffrey I. Kessler,
Assistant Secretary for Enforcement and Compliance.

Appendix

List of Topics Discussed in the Issues and Decision Memorandum

I. Summary

II. Background

III. Scope of the Order

IV. Surrogate Country

V. Separate Rates

VI. Discussion of the Issues

Comment 1: Separate Rate for Non-Selected Respondents

Comment 2: Valuation of Live Crawfish

VII. Recommendation

[FR Doc. 2019-23771 Filed 10-30-19; 8:45 am]

BILLING CODE 3510-DS-P